DEPARTMENT OF TRANSPORTATION

Federal Aviation Administration

14 CFR Part 71

[Airspace Docket No. 01-ASO-2]

Amendment of Class D Airspace; Valdosta Moody AFB, GA

AGENCY: Federal Aviation Administration (FAA), DOT.

ACTION: Final rule.

SUMMARY: This action amends Class D airspace at Valdosta Moody AFB, GA. Operational requirements necessitate that the new T-6 turboprop trainer aircraft at Moody AFC be flown in an extended Visual Flight Rules (VFR) traffic pattern. As a result, additional airspace is required beyond the existing 5-mile Class D airspace to contain these aircraft. The U.S. Air Force has requested that the Valdosta Moody AFB, GA, Class D airspace be extended to a 7-mile radius of Moody AFB.

EFFECTIVE DATE: 0901 UTC, July 12, 2001.

FOR FURTHER INFORMATION CONTACT: Walter R. Cochran, Manager, Airspace Branch, Air Traffic Division, Federal Aviation Administration, P.O. Box 20636, Atlanta, Georgia 30320; telephone (404) 305-5586.

SUPPLEMENTARY INFORMATION:

History

On January 30, 2001, the FAA proposed to amend Part 71 of the Federal Aviation regulations (14 CFR Part 71) by amending Class D airspace at Valdosta Moody AFB, GA (66 FR 9986) at the request of the U.S. Air Force, the primary airspace user. Class D airspace designations for airspace areas extending upward from the surface of the earth are published in FAA Order 7400.9H, dated September 1, 2000, and effective September 16, 2000, which is incorporated by reference in 14 CFR 71.1. The Class D designation listed in this document will be published subsequently in the Order.

Interested parties were invited to participate in this rulemaking proceeding by submitting written comments on the proposal to the FAA. No comments objecting to the proposal were received.

The Rule

This amendment to Part 71 of the Federal Aviation Regulations (14 CFR Part 71) amends Class D airspace at Valdosta Moody AFB, GA.

The FAA has determined that this regulation only involves an established body of technical regulations for which frequent and routine amendments are necessary to keep them optionally current. It, therefore, (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by Reference, Navigation (air).

Adoption of the Amendment

In consideration of the foregoing, the Federal Aviation Administration amends 14 CFR Part 71 as follows:

PART 71—DESIGNATION OF CLASS A, CLASS B, CLASS C, CLASS D AND CLASS E AIRSPACE AREAS; AIRWAYS; ROUTES; AND REPORTING POINTS

1. The authority citation for 14 CFR Part 71 continues to read as follows:

Authority: 49 U.S.C. 106(g); 40103, 40113, 40120; EO 10854, 24 FR 9565, 3 CFR 1959-1963 Comp., p. 389; 14 CFR 11.69.

§ 71.1 [Amended]

2. The incorporation by reference in 14 CFR 71.1 of Federal Aviation Administration Order 7400.9H, Airspace Designations and Reporting Points, dated September 1, 2000, and effective September 16, 2000, is amended as follows:

Paragraph 5000 Class D Airspace

* * * * *

ASO GA D Valdosta Moody AFB, GA [Revised]

Valdosta, Moody AFB, Ga

(Lat. 30°58′07″N, long. 83°11′35″W)

That airspace extending upward from the surface, to and including 2,700 feet MSL, within a 7-mile radius of Moody AFB. This Class D airspace area is effective during the specific dates and times established in advance by a Notice to Airmen. The effective dates and times will thereafter be continuously published in the Airport/Facility Directory.

* * * * *

Issued in College Park, Georgia, on March 19, 2001.
Walter R. Cochran,
Acting Manager, Air Traffic Division, Southern Region.

[FR Doc. 01-7952 Filed 3-29-01; 8:45 am]

BILLING CODE 4910-13-M